DEPARTMENT OF THE TREASURY

31 CFR Part 33

DEPARTMENT OF HEALTH AND HUMAN SERVICES

Centers for Medicare & Medicaid Services

42 CFR Parts 435 and 600

Office of the Secretary

45 CFR Parts 153, 155, and 156

[CMS-9895-F2]

RIN-0938-AV22

Patient Protection and Affordable Care Act, HHS Notice of Benefit and Payment Parameters for 2025; Updating Section 1332 Waiver Public Notice Procedures; Medicaid; Consumer Operated and Oriented Plan (CO-OP) Program; and Basic Health Program; Correcting Amendment

AGENCY: Centers for Medicare & Medicaid Services (CMS), HHS.

ACTION: Correcting amendment.

SUMMARY: This document corrects technical and typographical errors in the final rule that appeared in the April 15, 2024 issue of the Federal Register entitled, “Patient Protection and Affordable Care Act, HHS Notice of Benefit and Payment Parameters for 2025; Updating Section 1332 Waiver Public Notice Procedures; Medicaid; Consumer Operated and Oriented Plan (CO-OP) Program; and Basic Health Program.” The effective date of the final rule was June 4, 2024.

DATES: Effective October 28, 2024 and applicable beginning June 4, 2024.

FOR FURTHER INFORMATION CONTACT: Dolma Tsering, (301) 448-3925.

SUPPLEMENTARY INFORMATION:

I. Background

In FR Doc. 2024-07274 of April 15, 2024 (89 FR 26218), the final rule entitled “Patient Protection and Affordable Care Act, HHS Notice of Benefit and Payment Parameters for 2025; Updating Section 1332 Waiver Public Notice Procedures; Medicaid; Consumer Operated and Oriented Plan (CO-OP) Program; and Basic Health Program” (hereinafter referred to as the 2025 Payment Notice), there were technical errors that are identified and corrected in the regulations text of this correcting amendment. The provisions of this correcting amendment are effective October 28, 2024 and are applicable beginning June 4, 2024.

II. Summary of Errors in the Regulation Text

On page 26424, in the amendatory instruction for § 156.111, we inadvertently noted changes to paragraph (b)(2) and not specifically paragraphs (b)(2)(i) and (ii). Therefore, paragraphs (b)(2)(iii) through (v) were inadvertently deleted.

III. Waiver of Proposed Rulemaking and Delay in Effective Date

We ordinarily publish a notice of proposed rulemaking in the Federal Register to provide a period for public comment before the provisions of a rule take effect in accordance with section 553(b) of the Administrative Procedure Act (APA) (5 U.S.C. 553(b)). However, we can waive this notice and comment procedure if the Secretary finds, for good cause, that the notice and comment process is impracticable, unnecessary, or contrary to the public interest, and incorporates a statement of the finding and the reasons therefore in the notice.

Section 553(d) of the APA ordinarily requires a 30-day delay in effective date of final rules after the date of their publication in the Federal Register. This 30-day delay in effective date can be waived, however, if an agency finds for good cause that the delay is impracticable, unnecessary, or contrary to the public interest, and the agency incorporates a statement of the findings and its reasons in the rule issued.

Our policy on streamlining the process for States to update their Essential Health Benefits (EHB) benchmark plans in the 2025 Payment Notice has previously been subjected to notice and comment procedures. This correcting amendment is consistent with the discussion of this policy in the 2025 Payment Notice and does not make substantive changes to this policy. Instead this correcting amendment merely corrects technical errors, specifically an unintended deletion, in the regulations text caused by an error in the amendatory instructions of the 2025 Payment Notice. As a result, this correcting amendment is intended to ensure that the 2025 Payment Notice accurately reflects the policy adopted in the final rule, which did not otherwise indicate any intention to delete the regulations text that was unintentionally deleted. Therefore, we find that undertaking further notice and comment procedures to incorporate these corrections into the final rule is unnecessary and contrary to the public interest.

For the same reasons, we are also waiving the 30-day delay in effective date for this correcting amendment. We believe that it is in the public interest to ensure that the regulations text accurately reflects the policy set forth in the 2025 Payment Notice streamlining the process for States to update their EHB-benchmark plans. Thus, delaying the effective date of this correcting amendment would be contrary to the public interest. Therefore, we also find good cause to waive the 30-day delay in effective date.

List of Subjects in 45 CFR Part 156

Administrative practice and procedure, Advertising, Advisory committees, Brokers, Conflict of interests, Consumer protection, Grant programs—health, Grants administration, Health care, Health insurance, Health maintenance organization (HMO), Health records, Hospitals, Indians, Individuals with disabilities, Loan programs—health, Medicaid, Organization and functions (Government agencies), Public assistance programs, Reporting and recordkeeping requirements, State and local governments, Sunshine Act, Technical assistance, Women, Youth.

For the reasons set forth in the preamble, HHS corrects 45 CFR part 156 by making the following correcting amendments:

PART 156—HEALTH INSURANCE ISSUER STANDARDS UNDER THE AFFORDABLE CARE ACT, INCLUDING STANDARDS RELATED TO EXCHANGES

1. The authority citation for part 156 continues to read as follows:

Authority: 42 U.S.C. 18021-18024, 18031-18032, 18041-18042, 18044, 18054, 18061, 18063, 18071, 18082, and 26 U.S.C. 36B.

2. Section 156.111 is amended by adding paragraphs (b)(2)(iii) through (v) to read as follows:

§ 156.111 State selection of EHB-benchmark plan for plan years beginning on or after January 1, 2020.

* * * * *

(b) * * *

(2) * * *

(iii) Not have benefits unduly weighted towards any of the categories of benefits at § 156.110(a);

(iv) Provide benefits for diverse segments of the population, including women, children, persons with disabilities, and other groups; and

(v) Not include discriminatory benefit designs that contravene the non-discrimination standards defined in § 156.125.

* * * * *

Elizabeth J. Gramling,
Executive Secretary to the Department, Department of Health and Human Services.

[FR Doc. 2024-24910 Filed 10-25-24; 8:45 am]

BILLING CODE 4120-01-M